DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on February 23, 2006. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, PO Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

The February 23, 2006, notice should be used as a reference point to identify changes. The numbering system in this notice corresponds with the numbering system in the February 23, 2006, notice.

Definitions of Abbreviations Used in This Document

BCP—Boulder Canyon Project

Reclamation—Bureau of Reclamation

CAP—Central Arizona Project

CVP—Central Valley Project

CRSP—Colorado River Storage Project

FR—Federal Register

IDD—Irrigation and Drainage District

ID—Irrigation District

M&I—Municipal and Industrial

NMISC—New Mexico Interstate Stream Commission

O&M—Operation and Maintenance

P-SMBP—Pick-Sloan Missouri Basin Program

PPR—Present Perfected Right

RRA—Reclamation Reform Act of 1982

SOD—Safety of Dams

SRPA—Small Reclamation Projects Act of 1956

WD—Water District

Pacific Northwest Region

Bureau of Reclamation, 1150 North Curtis Road, Suite 100, Boise, Idaho 83706-1234, telephone 208-378-5344.

New Contract Actions

18. Three irrigation water user entities, Boise Project, Idaho: Amendatory repayment contract with New Union Ditch Company to reduce contract by 500 acre-feet of Lucky Peak storage space and new contracts with Wilderness Ranch Owners' Association for 200 acre-feet and Osprey Subdivision Project Owners' Association for 300 acre-feet of Lucky Peak storage space.

19. Stanfield ID, Umatilla Project, Oregon: Contract for long-term boundary expansion to include lands outside of federally recognized district boundaries.

Modified Contract Actions

15. Twenty-one irrigation districts of the Arrowrock Division, Boise Project, Idaho: Repayment agreements with districts with spaceholder contracts for repayment, per legislation, of reimbursable share of costs to rehabilitate Arrowrock Dam Outlet Gates under the O&M program.

16. Five irrigation water user entities, Boise Project, Idaho: Long-term renewal and/or conversion of five irrigation water service contracts for supplemental irrigation use of up to 7,518 acre-feet of storage space in Lucky Peak Reservoir, a Corps of Engineers' project on the Boise River, Idaho.

Mid-Pacific Region

Bureau of Reclamation, 2800 Cottage Way, Sacramento, California 95825-1898, telephone 916-978-5250.

New Contract Actions

40. City of Tracy, Sacramento Municipal Utility District, Santa Clara Valley WD, and San Benito County Water Agency; all CVP; California: Amend existing water service contracts to conform to current Reclamation law.

41. San Luis WD and Marvin Meyers/Meyers Farm, San Luis/Delta Division, CVP, California: Negotiation of a long-term exchange contract.

Lower Colorado Region

Bureau of Reclamation, PO Box 61470 (Nevada Highway and Park Street), Boulder City, Nevada 89006-1470, telephone 702-293-8081.

New Contract Actions

36. Chacha AZ, LLC, BCP, Arizona: Contract for 2,100 acre-feet per year of fourth-priority Arizona water for agricultural purposes.

37. Cibola Valley IDD, BCP, Arizona: Assign 60 acre-feet per year of the district's entitlement to Arizona fourth-priority water to Cibola Resources, LLC, for agricultural purposes.

38. All-American Canal, BCP, California: Agreement among Reclamation, the Department of the Interior, the Imperial ID, and the San Diego County Water Authority for construction of the All-American Canal Lining Project pursuant to Title II of Pub. L. 100-675.

39. City of Yuma, BCP, Arizona: Supplemental and amendatory contract to provide for additional point of delivery for a new pump station to be constructed on the Gila Gravity Main Canal, with initial intake capacity of 20 million gallons per day, building up to 40 million gallons per day at full design.

40. The Metropolitan WD of Southern California, BCP, California: Contract to implement a demonstration program to create intentionally created surplus through extraordinary conservation in 2006 and 2007 and store this water in Lake Mead.

Completed Contract Actions

4. Beattie Farms SW, BCP, Arizona: Contract for 1,110 acre-feet per year of fourth priority water for agricultural purposes. Contract executed February 17, 2006.

20. City of Somerton, BCP, Arizona: Contract for the annual delivery of up to 750 acre-feet of Colorado River water per year for domestic use as recommended by the Arizona Department of Water Resources. Contract executed February 8, 2006.

38. All-American Canal, BCP, California: Agreement among Reclamation, the Department of the Interior, the Imperial ID, and the San Diego County Water Authority for construction of the All-American Canal Lining Project pursuant to Title II of Pub. L. 100-675. Contract executed January 13, 2006.

Discontinued Contract Action

12. Canyon Forest Village II Corporation, BCP, Arizona: Colorado River water delivery contract for up to 400 acre-feet per year of unused Arizona apportionment or surplus apportionment for domestic use.

Upper Colorado Region

Bureau of Reclamation, 125 South State Street, Room 6107, Salt Lake City, Utah 84138-1102, telephone 801-524-3864.

New Contract Actions

1.(f) GW Spore Family Minor Subdivision, Aspinall Storage Unit, CRSP: GW Spore has requested a 40-year water service contract for 1 acre-foot of water out of Blue Mesa Reservoir. They have submitted their augmentation plan to Water District 4, case No. 05 CW 220.

1.(g) Arlo Cox, Aspinall Storage Unit, CRSP: Mr. Cox has requested a 40-year water service contract for 1 acre-foot of water out of Blue Mesa Reservoir. He has submitted his augmentation plan to Water District 4, case number pending.

31. Jensen Unit, Central Utah Project, Utah: The Uintah Water Conservancy District has requested a contract with provision to prepay at a discounted rate, for the remaining 3,300 acre-feet of unmarketed project M&I water.

32. Emery County Project, Utah: The Huntington Cleveland Irrigation Company has requested a contract for carriage of up to 6,754 acre-feet of nonproject water; utilizing Huntington North Reservoir as a regulating feature associated with their Salinity Control Project.

Modified Contract Actions

22. Public Service Company of New Mexico, Reclamation, and the U.S. Fish and Wildlife Service; San Juan River Basin Recovery Implementation Program: The agreement identifies that Reclamation may provide cost-share funding for the recovery monitoring and research, and O&M of the constructed fish passage at the Public Service Company's site pursuant to Public Law 106-392, dated October 30, 2000, 114 Stat. 1062.

30. Navajo Nation, San Juan River Dineh Water Users, Reclamation, and the U.S. Fish and Wildlife Service; San Juan River Basin Recovery Implementation Program: The agreement identifies that Reclamation may provide cost-share funding for the recovery monitoring and research, and O&M of the constructed fish passage at the Hogback Diversion Dam pursuant to Public Law 106-392, dated October 30, 2000, 114 Stat. 1602.

Completed Contract Actions

1.(c) Joseph Foran, Aspinall Storage Unit, CRSP: Mr. Foran has requested a 40-year water service contract for 25 acre-feet of water out of Blue Mesa Reservoir. Mr. Foran has submitted an augmentation plan to Water District 4, case number pending. Contract was executed February 17, 2006

1.(d) Farnsworth Construction and Gravel Company, Aspinall Storage Unit, CRSP: The Company has requested a 40-year water service contract for 1 acre-foot of water out of Blue Mesa Reservoir. The Company has submitted an augmentation plan to Water District 4, Case No. 04-CW-204. Contract was executed February 17, 2006.

1.(e) Double Tree Ranch East, LLC, Aspinall Storage Unit, CRSP: Double Tree has requested a 40-year water service contract for 1 acre-foot of water out of Blue Mesa Reservoir. Double Tree has submitted an augmentation plan to Water District 4, case number pending. Contract was executed January 23, 2006.

29. North Fork Water Conservancy District and Ragged Mountain Water Users Association, Paonia Project, Colorado: The district and the association have requested a contract for supplemental water from the Paonia Project. Their existing contract expired on December 31, 2005. This contract will include irrigation and municipal uses. Contract was executed January 23, 2006, for irrigation water use only.

Great Plains Region

Bureau of Reclamation, PO Box 36900, Federal Building, 316 North 26th Street, Billings, Montana 59107-6900, telephone 406-247-7752.

New Contract Actions

43. Frenchman Cambridge ID; Meeker-Driftwood, Red Willow, and Cambridge Units; Frenchman Division, P-SMBP; Cambridge, Nebraska: Legislation is pending for equalization of the construction obligation payments over the remaining years of the water supply repayment obligation period, and to delay the increase in the reserve fund payments.

44. Kansas-Bostwick ID No. 2; Courtland Unit, Bostwick Division, P-SMBP; Courtland, Kansas: Legislation is pending for equalization of the construction obligation payments over the remaining years of the water supply repayment obligation period, and to delay the increase in the reserve fund payments.

45. Bostwick ID; Superior-Courtland and Franklin Units, Bostwick Division, P-SMBP; Red Cloud, Nebraska: Legislation is pending for equalization of the construction obligation payments over the remaining years of the water supply repayment obligation period, and to delay the increase in the reserve fund payments.

46. Webster ID; Webster Unit, Solomon Division, P-SMBP; Gaylord, Kansas: Legislation is pending for equalization of the construction obligation payments over the remaining years of the water supply repayment obligation period, and to delay the increase in the reserve fund payments.

Modified Contract Actions

19. Clark Canyon Water Supply Company, East Bench Unit, P-SMBP, Montana: Negotiating renewal of contract No. 14-06-600-3592 which was amended to expire March 31, 2006. Current contract may be amended again to extend the term not to exceed an additional 2 years pursuant to Section 208 of the 2005 Consolidated Appropriations Act if necessary and agreed to by both parties.

20. East Bench ID, East Bench Unit, P-SMBP, Montana: Negotiating renewal of contract No. 14-06-600-3593 which was amended to expire March 31, 2006. Current contract may be amended again to extend the term not to exceed an additional 2 years pursuant to Section 208 of the 2005 Consolidated Appropriations Act if necessary and agreed to by both parties.

27. Hill County WD, Milk River Project, Montana: Drafting contracts for renewal of municipal water supply contract No. 14-06-600-8954 which expires August 1, 2006. The proposal includes splitting the contract between Hill County WD and North Havre County WD which both receive their full water supply under the current contract.

Dated: March 28, 2006.
Roseann Gonzales,
Director, Office of Program and Policy Services.

[FR Doc. E6-8005 Filed 5-24-06; 8:45 am]

BILLING CODE 4310-MN-P